DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with September anniversary dates. In accordance with the Department's regulations, we are initiating those administrative reviews.

EFFECTIVE DATE: October 22, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2002), for administrative reviews of various antidumping and countervailing duty orders and findings with September anniversary dates.

Initiation of Reviews

In accordance with sections 19 CFR 351.221(c)(1)(i), we are initiating administrative reviews of the following antidumping and countervailing duty orders and findings. We intend to issue the final results of these reviews not later than September 30, 2005.

Antidumping duty proceedings | Period to be reviewed
Latvia: Steel Concrete Reinforcing Bars, A-449-804, Joint Stock Company Liepajas Metalurgs | 9/1/03-8/31/04
Sweden: Stainless Steel Wire Rod, A-401-806, Fagersta Stainless AB | 9/1/03-8/31/04
Taiwan: Stainless Steel Wire Rod, A-583-828, Walsin Lihwa Corporation Outokumpu Stainless ¹ | 9/1/03-8/31/04
Socialist Republic of Vietnam: Frozen Fish Fillets,² A-552-801 | 1/31/03-7/31/04
The People's Republic of China: Freshwater Crawfish Tail Meat, ³ A-570-848 | 9/1/03-8/31/04
China Kingdom International |
Qingdao Jinyongxiang Aquatic Foods Co., Ltd. |
Qingdao Xiyuan Refrigerate Food Co., Ltd. |
Weishan Zhenyu Foodstuff Co., Ltd. |
Yancheng Hi-King Agriculture Developing Co., Ltd. |
Yancheng Yaou Seafood Co., Ltd. |
¹ For additional information, see the memorandum to the file for case A-583-828 regarding initiation of the 2003-2004 antidumping duty administrative review of Outokumpu Stainless. The memorandum is dated concurrently with this initiation notice.
² In the initiation notice that published on September 22, 2004 (69 FR 56745) the following footnote for frozen fish fillets from the Socialist Republic of Vietnam was inadvertently omitted—“If one of the above named companies does not qualify for a separate rate, all other exporters of frozen fish fillets from the Socialist Republic of Vietnam who have not qualified for a separate rate are deemed to be covered by this review as part of the single Vietnam entity of which the named exporters are a part.
³ If one of the above named companies does not qualify for a separate rate, all other exporters of freshwater crawfish tail meat from the People's Republic of China who have not qualified for a separate rate are deemed to be covered by this review as part of the single PRC entity of which the named exporters are a part.

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(I).

Dated: October 18, 2004.
Holly A. Kuga,
Senior Office Director, Office 4 for Import Administration.

[FR Doc. E4-2802 Filed 10-21-04; 8:45 am]

BILLING CODE 3510-DS-P